INTERNATIONAL TRADE COMMISSION

[Investigation No. 337-TA-754]

Certain Handbags, Luggage, Accessories, and Packaging Thereof; Determination Not To Review an Initial Determination Granting Complainant's Motion for Summary Determination

AGENCY: U.S. International Trade Commission.

ACTION: Notice.

SUMMARY: Notice is hereby given that the U.S. International Trade Commission has determined not to review the presiding administrative law judge's (“ALJ”) initial determination (“ID”) (Order No. 16) granting complainant's motion for summary determination of violation of Section 337 in the above captioned investigation.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 5, 2011, based on a complaint filed by Louis Vuitton Malletier S.A. of Paris, France and Louis Vuitton U.S. Manufacturing, Inc., San Dimas, California (collectively “Louis Vuitton”), as amended on December 10, 2010, alleging violations of Section 337 of the Tariff Act of 1930, as amended, 19 U.S.C. § 1337 (“section 337”), in the importation into the United States, the sale for importation, and the sale within the United States after importation of certain handbags, luggage, accessories, and packaging thereof by reason of infringement of U.S. Trademark Registration Nos. 297,594; 1,643,625; 1,653,663; 1,875,198 (“the '198 mark”); 2,773,107; 2,177,828; 2,181,753; and 1,519,828. 76 FR 585-6 (Jan. 5, 2011). Louis Vuitton later withdrew its allegations as to its '198 mark in the Second Amended Complaint filed March 24, 2011. See 76 FR 24522 (May 2, 2011). The complaint further alleges the existence of a domestic industry.

The Commission's Notice of Investigation named as respondents T&T Handbag Industrial Co., Ltd. of Guangzhou, China Sanjiu Leather Co., Ltd. of Guangzhou, China; Meada Corporation (d/b/a/Diophy Internation) of El Monte, California; Pacpro, Inc. of El Monte, California; Jianyong Zheng (a/k/a/Jui Go Zheng, Jiu An Zheng, Jian Yong Zheng, Peter Zheng) of Arcadia, California; Alice Bei Wang (a/k/a Alice B. Wang) of Arcadia, California; Trendy Creations, Inc. of Chatsworth, California; The Inspired Bagger of Dallas, Texas; House of Bags of Los Angeles, California; Ronett Trading, Inc. (d/b/a/Ronett Wholesale & Import) of New York, New York; EZ Shine Group, Inc. of New York, New York; Master of Handbags of Los Angeles, California; Choicehandbags.com, Inc. (d/b/a/Choice Handbags) of Los Angeles, California; and Rasul Enterprises, LLC (d/b/a/The Handbag Warehouse) of Dallas, Texas. On April 27, 2011, the Commission determined not to review an ID amending the Notice of Investigation: (1) To add Jiu An Zheng and Jiu Gao Zheng in place of Jianyong Zhen; (2) to add Rimen Leather Co., Ltd, Guangzhou Rimen Leather Goods Company Limited, and Guangzhou Rui Ma Leatherware Co., Ltd. in place of Sanjiu Leather Co., Ltd; and (3) to add Monhill, Inc. and Zhixian Lu as respondents. 76 FR 24522 (May 2, 2011). The Commission eventually found all of the respondents in default or terminated them from the investigation based on settlement and consent orders. See Notice (Aug. 17, 2011) (Order No. 11); Notice (Aug. 26, 2011) (Order No. 12); Notice (Nov. 2, 2011) (Order No. 14) (unreviewed in relevant part).

On June 28, 2011, the Commission determined not to review an ID (Order No. 7) granting Louis Vuitton's motion for summary determination that it has satisfied the domestic industry requirement. Notice (June 28, 2011).

On August 17, 2011, Louis Vuitton filed a motion pursuant to section 210.18 of the Commission Rules of Practice and Procedure (19 CFR 210.18) for summary determination of violation of section 337 and requesting issuance of a general exclusion order. On August 30, 2011, the Commission investigative attorney filed a response supporting the motion.

On March 5, 2012, the ALJ issued the subject ID granting Louis Vuitton's motion for summary determination of violation of section 337. No petitions for review of the ID were filed. The ID also contained the ALJ's recommended determination of remedy and bonding. Specifically, the ALJ recommended issuance of a general exclusion order. The ALJ further recommended that the Commission set a bond of 100 percent during the period of Presidential review.

Having examined the record of this investigation, including the ALJ's final ID, the Commission has determined not to review the ID.

In connection with the final disposition of this investigation, the Commission may (1) issue an order that could result in the exclusion of the subject articles from entry into the United States, and/or (2) issue one or more cease and desist orders that could result in the respondent(s) being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see In the Matter of Certain Devices for Connecting Computers via Telephone Lines, Inv. No. 337-TA-360, USITC Pub. No. 2843 (December 1994) (Commission Opinion).

If the Commission contemplates some form of remedy, it must consider the effects of that remedy upon the public interest. The factors the Commission will consider include the effect that an exclusion order and/or cease and desist orders would have on (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve or disapprove the Commission's action. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. Such submissions should address the recommended determination by the ALJ on remedy and bonding.

Complainants and the IA are also requested to submit proposed remedial orders for the Commission's consideration. Complainants are also requested to state the dates that the patents expire and the HTSUS numbers under which the accused products are imported. The written submissions and proposed remedial orders must be filed no later than close of business on April 26, 2012. Reply submissions must be filed no later than the close of business on May 3, 2012. No further submissions on these issues will be permitted unless otherwise ordered by the Commission.

Persons filing written submissions must do so in accordance with Commission rule 210.4(f), 19 CFR 210.4(f) which requires electronic filing. The original document and eight (8) true copies thereof must also be filed on or before the deadlines stated above with the Office of the Secretary. Any person desiring to submit a document (or portion thereof) to the Commission in confidence must request confidential treatment unless the information has already been granted such treatment during the proceedings. All such requests should be directed to the Secretary of the Commission and must include a full statement of the reasons why the Commission should grant such treatment. See section 201.6 of the Commission's Rules of Practice and Procedure, 19 CFR 201.6. Documents for which confidential treatment by the Commission is sought will be treated accordingly. All nonconfidential written submissions will be available for public inspection at the Office of the Secretary.

The authority for the Commission's determination is contained in section 337 of the Tariff Act of 1930, as amended (19 U.S.C. 1337), and in sections 210.42-46 and 210.50 of the Commission's Rules of Practice and Procedure (19 CFR 210.42-46 and 210.50).

Issued: April 12, 2012.
By order of the Commission.
James R. Holbein,
Secretary to the Commission.

[FR Doc. 2012-9175 Filed 4-16-12; 8:45 am]

BILLING CODE 7020-02-P